DEPARTMENT OF AGRICULTURE

Food and Nutrition Service

Agency Information Collection Activities: Supplemental Nutrition Assistance Program (SNAP)—Waiver Requests To Offer Incentives to SNAP Recipients at SNAP Authorized Stores

AGENCY: Food and Nutrition Service (FNS), USDA.

ACTION: Notice.

SUMMARY: In accordance with the Paperwork Reduction Act of 1995, this notice invites the general public and other public agencies to comment on this proposed information collection. This is an existing collection in use without an OMB Control Number in which we are seeking approval to establish a process for SNAP authorized retailers to request a waiver from the Food and Nutrition Service (FNS) to offer SNAP recipients incentives that encourage them to purchase healthier foods. This collection burden only affects SNAP retailers and non-profit organizations or governmental entities who partner with SNAP-authorized stores. There is no data collection activities for SNAP households in this request.

DATES: Written comments must be received on or before July 10, 2020.

ADDRESSES: The Food and Nutrition Service, USDA, invites interested persons to submit written comments on this information collection. Comments may be submitted in writing by one of the following methods:

• Federal eRulemaking Portal: Go to http://www.regulations.gov. Follow the online instructions for submitting comments.

• Mail: Comments should be addressed to Vicky Robinson, Chief, Retailer Management and Issuance Branch, Retailer Policy and Management Division, 1320 Braddock Place, Alexandria, Virginia 22314.

All responses to this notice will be summarized and included in the request for Office of Management and Budget approval. All comments will be a matter of public record.

FOR FURTHER INFORMATION CONTACT: Requests for additional information or copies of this information collection should be directed to Vicky Robinson at 703-305-2476.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Retailer Incentive Waiver Request.

Form Number: Not Applicable.

OMB Number: 0584-NEW.

Expiration Date: Not Yet Determined.

Type of Request: Existing collection in use without an OMB Control Number.

Abstract: SNAP equal treatment provisions at 7 CFR 278.2(b) and 7 CFR 274.7(f) require that SNAP recipients receive treatment equal to that received by other customers at all stores authorized to participate in SNAP with the exception that sales tax may not be charged on eligible foods purchased with SNAP benefits. This equal treatment provision prohibits both negative treatment (such as discriminatory practices) as well as preferential treatment (such as incentive programs). Pursuant to Section 4008 of the Agriculture Improvement Act of 2018, Public Law 115-334 (2018 Farm Bill), individual SNAP authorized retailers (or non-profit organizations or governmental entities, which partner with authorized stores) may request that FNS waive the SNAP equal treatment provisions in order to be allowed to implement an incentive program the meets the requirements under 7 U.S.C. 2018(j) to encourage SNAP recipients to purchase healthier foods.

Most SNAP authorized stores that offer incentives to SNAP recipients are either farmers' markets or part of the statutorily-authorized Gus Schumacher Nutrition Incentive Program (GusNIP), which is administered by the USDA's National Institute of Food and Agriculture (NIFA).

Farmer's markets are already authorized to provide incentives to SNAP recipients under a blanket FNS waiver of the SNAP equal treatment provision, specifically for farmers' markets. GusNIP grantees are authorized to provide incentives to SNAP recipients through GusNIP grant projects under 7 U.S.C. 7517 and, therefore, do not require a waiver to implement a SNAP incentive program. Only SNAP retailers that are not farmers' markets or that are not offering incentives under a GusNIP grant are required to obtain individual waivers from FNS to provide incentives at authorized SNAP retailer locations to SNAP households. FNS has been providing incentive waivers to SNAP retailers prior to passage of the 2018 Farm Bill under FNS' regular waiver process. To date, FNS has been receiving an average of four incentive waiver requests per year. Waivers provided to non-profit institutions or State/local/Tribal governments generally cover multiple retailer locations. With this new streamlined process, the Department estimates that out of 245,000 authorized retailers that participate in our program, approximately 18 different retailers would be covered under 10 different incentive waiver requests annually. In general, the waivers are granted for one year.

The new streamlined process for requesting a waiver would involve emailing information to a specified FNS email box. The information a retailer must submit would include:

1. FNS number, name, and address of each participating retailer;

2. A description of the incentive program;

3. The incentive program start and end dates; and

4. A brief description of any data collection/analysis the store would be conducting on its own behalf to measure program impact if applicable.

The Department has identified and outlined the activity and the estimated burden hours associated with submitting a SNAP Retailer Incentive Waiver Request.

SNAP Retailer Incentive Waiver Request

Affected Public: (a) Business or other for-profit, (b) Not-for-profit institution, and (c) State, local or Tribal Government. Respondent groups identified include: Up to a total of three SNAP authorized stores, five not-for-profit institutions, and two State, local or Tribal governments, which are neither farmers' markets nor operating an incentive program under a GusNIP grant.

Business or Other For-Profit/Not-For-Profit Institution/State, Local or Tribal Government Annual Burden

Estimated Annual Number of Respondents: 10.

Estimated Annual Number of Responses per Respondent: 1.

Estimated Total Annual Responses: 10.

Estimated Annual Time per Response: 30 minutes or 0.5 hours.

Estimated Total Annual Burden on Respondents: 5 hours.

Respondent | CFR citation | Activity | Estimated annual # respondent | Responses annually per respondent | Total annual responses | Estimated avg. # of hours per response annually | Estimated annual total hours
Business or other for-profit | 7 CFR 274.7(f) and 278.2(b) | SNAP Retailer Incentive Waiver Request | 3 | 1 | 3 | 0.5 | 1.5
Business-not-for-profit institution | 7 CFR 274.7(f) and 278.2(b) | SNAP Retailer Incentive Waiver Request | 5 | 1 | 5 | 0.5 | 2.5
Sub-total Business-for-not-for-profit |  |  | 8 | 1 | 8 | 0.5 | 4.0
State, local or Tribal Government | 7 CFR 274.7(f) and 278.2(b) | SNAP Retailer Incentive Waiver Request | 2 | 1 | 2 | 0.5 | 1.0
Grand-Total for Business-for-not-for-profit and State, Local and Tribal |  |  | 10 | 1 | 10 | 0.5 | 5.0

Pamilyn Miller,
Administrator, Food and Nutrition Service.

[FR Doc. 2020-09993 Filed 5-8-20; 8:45 am]

BILLING CODE 3410-30-P